DEPARTMENT OF COMMERCE

National Oceanic and Atmospheric Administration

RIN 0648-XU00

Endangered Species; File No. 14754

AGENCY: National Marine Fisheries Service (NMFS), National Oceanic and Atmospheric Administration (NOAA), Commerce.

ACTION: Notice; receipt of application.

SUMMARY: Notice is hereby given that Isaac Wirgin, PhD, New York University School of Medicine, Department of Environmental Medicine, Tuxedo, NY 10987, has applied in due form for a permit to import and take shortnose sturgeon (Acipenser brevirostrum) early life stages (ELS) for purposes of scientific research.

DATES: Written, telefaxed, or e-mail comments must be received on or before March 10, 2010.

ADDRESSES: The application and related documents are available for review by selecting “Records Open for Public Comment” from the Features box on the Applications and Permits for Protected Species (APPS) home page, https://apps.nmfs.noaa.gov/index.cfm, and then selecting File No. 14754 from the list of available applications. The application and related documents are available for review upon written request or by appointment in the following offices:

• Permits, Conservation and Education Division, Office of Protected Resources, NMFS, 1315 East-West Highway, Room 13705, Silver Spring, MD 20910; phone (301) 713-2289; fax (301) 713-0376; and

• Northeast Region, NMFS, Protected Resources Division, 55 Great Republic Drive, Gloucester, MA 01930; phone (978) 281-9328; fax (978) 281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14754.

FOR FURTHER INFORMATION CONTACT: Malcolm Mohead or Jennifer Skidmore, (301) 713-2289.

SUPPLEMENTARY INFORMATION: The subject permit is requested under the authority of the Endangered Species Act of 1973, as amended (ESA; 16 U.S.C. 1531 et seq.), and the regulations governing the taking, importing, and exporting of endangered and threatened species (50 CFR 222-226).

A scientific research permit application was submitted by Dr. Isaac Wirgin of the New York University School of Medicine, Department of Environmental Medicine, to conduct research on Atlantic and shortnose sturgeon. Dr. Wirgin is requesting to conduct a study to determine if early life-stages of Atlantic and shortnose sturgeon are sensitive to PCB mixtures such that the effects would impact recruitment success in the environment, such as in the Hudson River. He needs an ESA permit to import and take up to 25,000 fertilized shortnose sturgeon eggs of Saint John River ancestry from Acadian Sturgeon and Caviar Inc., Saint John, NB, Canada. If required, shortnose sturgeon eggs could also be supplemented with embryos of Connecticut River descent obtained from the Conte Lab, USGS, Turner Falls, MA (NMFS Permit 1549-01).

The initial proposed research would take place during two sampling seasons beginning in the spring of 2010 and ending in the spring of 2011. In subsequent years of the permit, studies would take place evaluating toxic effects of other contaminants. The permit would not authorize any takes from the wild, nor would it authorize any release of captive sturgeon into the wild.

Dated: February 2, 2002.
P. Michael Payne,
Chief, Permits, Conservation and Education Division, Office of Protected Resources, National Marine Fisheries Service.

[FR Doc. 2010-2682 Filed 2-5-10; 8:45 am]

BILLING CODE 3510-22-S